DEPARTMENT OF COMMERCE

National Oceanic and Atmospheric Administration

RIN 0648-XD668

Gulf of Mexico Fishery Management Council; Public Meeting

AGENCY: National Marine Fisheries Service (NMFS), National Oceanic and Atmospheric Administration (NOAA), Commerce.

ACTION: Notice; public meetings.

SUMMARY: The Gulf of Mexico Fishery Management Council (Council) will hold a meeting of the Standing, Special Reef Fish and Special Mackerel Scientific and Statistical Committee (SSC).

DATES: The meeting will convene at 1 p.m. Tuesday, January 6 until 12 noon Thursday, January 8, 2015.

ADDRESSES:

Meeting address: The meeting will be held at the Gulf Council's office.

Council address: Gulf of Mexico Fishery Management Council, 2203 North Lois Avenue, Suite 1100, Tampa, FL, 33607.

FOR FURTHER INFORMATION CONTACT: Mr. Steven Atran, Senior Fishery Biologist, Gulf of Mexico Fishery Management Council; telephone: (813) 348-1630; fax: (813) 348-1711; email: steven.atran@gulfcouncil.org.

SUPPLEMENTARY INFORMATION: The items of discussion in the individual meeting agenda are as follows:

Standing, Special Reef Fish and Special Mackerel SSC Agenda, Tuesday, January 6, 2015, 1 p.m. Until Thursday, January 8, 2015, 12 Noon

1. Introductions and Adoption of Agenda

2. Approval of minutes

a. August 6, 2013 Standing and Special Mackerel summary minutes

b. August 6-7, 2014 Standing and Special Reef Fish summary minutes

c. October 1-2, 2014 Standing and Special Reef Fish SSC summary minutes

3. Selection of SSC representative at January 26-29, 2015 Council meeting (Point Clear, AL)

4. Red Snapper Update Assessment

5. FWC Mutton Snapper Update Assessment

6. Greater Amberjack Rebuilding Timeline Projections

7. SEDAR 38 King Mackerel Benchmark Assessment (this agenda item to be presented on Wednesday morning, January 7)

a. Review South Atlantic SSC recommendations

b. Gulf SSC Recommendation for Overfishing Limit (OFL) and Acceptable Biological Catch (ABC)

8. Estimation of Red Tide Mortality on Gag

9. Ecosystem Modeling of red tide effects on gag and red grouper

10. Reevaluation of Gag OFL/ABC for 2015-16

a. Council concerns with previous ABC recommendation

b. Update on red tide

c. OFL and ABC recommendation

11. Other Business

Adjourn

The Agenda is subject to change, and the latest version will be posted on the Council's file server. To access the file server, the URL is https://public.gulfcouncil.org:5001/webman/index.cgi, or go to the Council's Web site and click on the FTP link in the lower left of the Council Web site (http://www.gulfcouncil.org). The username and password are both “gulfguest”. Click on the “Library Folder”, then scroll down to “SSC meeting -2015-01”.

The meetings will be webcast over the Internet. A link to the webcast will be available on the Council's Web site, http://www.gulfcouncil.org.

Although other non-emergency issues not on the agenda may come before the Scientific and Statistical Committees for discussion, in accordance with the Magnuson-Stevens Fishery Conservation and Management Act, those issues may not be the subject of formal action during these meetings. Actions of the Scientific and Statistical Committees will be restricted to those issues specifically identified in the agenda and any issues arising after publication of this notice that require emergency action under Section 305(c) of the Magnuson-Stevens Fishery Conservation and Management Act, provided the public has been notified of the Council's intent to take action to address the emergency.

Special Accommodations

These meetings are physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: December 16, 2014.
Tracey L. Thompson,
Acting Deputy Director, Office of Sustainable Fisheries, National Marine Fisheries Service.

[FR Doc. 2014-29745 Filed 12-18-14; 8:45 am]

BILLING CODE 3510-22-P